DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Arkansas: Washington (FEMA Docket No.: B-2401) | City of Fayetteville (23-06-0884P). | The Honorable Lioneld Jordan, Mayor, City of Fayetteville, 113 West Mountain Street, Fayetteville, AR 72701. | City Hall, 113 West Mountain Street, Fayetteville, AR 72701. | Feb. 20, 2024 | 050216
Connecticut: Middlesex (FEMA Docket No.: B-2395) | Town of Old Saybrook (23-01-0694P). | Carl P. Fortuna Jr., First Selectman, Town of Old Saybrook Board of Selectmen, 302 Main Street, Old Saybrook, CT 06475. | Planning Department, 302 Main Street, Old Saybrook, CT 06475. | Feb. 23, 2024 | 090069
Delaware: New Castle (FEMA Docket No.: B-2401) | Unincorporated areas of New Castle County (23-03-0137P). | Matthew Meyer, New Castle County Executive, 87 Read's Way, New Castle, DE 19720. | New Castle County, Government Center, 87 Read's Way, New Castle, DE 19720. | Feb. 15, 2024 | 105085
District of Columbia: Washington, DC (FEMA Docket No.: B-2395) | District of Columbia (23-03-0624P). | The Honorable Muriel Bowser, Mayor, District of Columbia, 1350 Pennsylvania Avenue Northwest, Washington, DC 20004. | Department of Energy and Environment, 1200 1st Street Northeast, 5th Floor, Washington, DC 20002. | Mar. 4, 2024 | 110001
Florida: Charlotte (FEMA Docket No.: B-2391) | Unincorporated areas of Charlotte County (23-04-3477P). | Bill Truex, Chair, Charlotte County Board of Commissioners, 18500 Murdock Circle, Suite 536, Port Charlotte, FL 33948. | Charlotte County, Building Department, 18400 Murdock Circle, Port Charlotte, FL 33948. | Feb. 20, 2024 | 120061
Hillsborough (FEMA Docket No.: B-2395) | City of Tampa (23-04-4679P). | The Honorable Jane Castor, Mayor, City of Tampa, 306 East Jackson Street, Tampa, FL 33602. | Building Department, 1400 North Boulevard, Tampa, FL 33607. | Feb. 20, 2024 | 120114
Lee (FEMA Docket No.: B-2391) | Unincorporated areas of Lee County (23-04-3477P). | Dave Harner, Manager, Lee County, P.O. Box 398, Fort Myers, FL 33901. | Lee County, Community Development Department, 1500 Monroe Street, Fort Myers, FL 33901. | Feb. 20, 2024 | 125124
Manatee (FEMA Docket No.: B-2391) | Unincorporated areas of Manatee County (23-04-3710P). | Lee Washington, Manatee County Administrator, 1112 Manatee Avenue, West Bradenton, FL 34205. | Manatee County, Administration Building, 1112 Manatee Avenue, West Bradenton, FL 34205. | Feb. 29, 2024 | 120153
Monroe (FEMA Docket No.: B-2391) | Unincorporated areas of Monroe County (23-04-5435P). | The Honorable Craig Cates, Mayor, Monroe County, Board of Commissioners, 500 Whitehead Street, Suite 102, Key West, FL 33040. | Monroe County, Building Department, 2798 Overseas Highway, Suite 300, Marathon, FL 33050. | Feb. 28, 2024 | 125129
Monroe (FEMA Docket No.: B-2391) | Unincorporated areas of Monroe County (23-04-5436P). | The Honorable Craig Cates, Mayor, Monroe County, Board of Commissioners, 500 Whitehead Street, Suite 102, Key West, FL 33040. | Monroe County, Building Department, 2798 Overseas Highway, Suite 300, Marathon, FL 33050. | Feb. 29, 2024 | 125129
Monroe (FEMA Docket No.: B-2391) | Unincorporated areas of Monroe County (23-04-5437P). | The Honorable Craig Cates, Mayor, Monroe County, Board of Commissioners, 500 Whitehead Street, Suite 102, Key West, FL 33040. | Monroe County, Building Department, 2798 Overseas Highway, Suite 300, Marathon, FL 33050. | Feb. 28, 2024 | 125129
Monroe (FEMA Docket No.: B-2395) | Unincorporated areas of Monroe County (23-04-5520P). | The Honorable Craig Cates, Mayor, Monroe County, Board of Commissioners, 500 Whitehead Street, Suite 102, Key West, FL 33040. | Monroe County, Building Department, 2798 Overseas Highway, Suite 300, Marathon, FL 33050. | Mar. 1, 2024 | 125129
Monroe (FEMA Docket No.: B-2391) | Village of Islamorada (23-04-5402P). | The Honorable Joseph Buddy Pinder III, Mayor, Village of Islamorada, 86800 Overseas Highway, Islamorada, FL 33036. | Building Department, 86800 Overseas Highway, Islamorada, FL 33036. | Feb. 26, 2024 | 120424
Monroe (FEMA Docket No.: B-2395) | Village of Islamorada (23-04-5499P). | The Honorable Joseph Buddy Pinder III, Mayor, Village of Islamorada, 86800 Overseas Highway, Islamorada, FL 33036. | Building Department, 86800 Overseas Highway, Islamorada, FL 33036. | Mar. 1, 2024 | 120424
Orange (FEMA Docket No.: B-2391) | City of Orlando (23-04-3675P). | The Honorable Buddy Dyer, Mayor, City of Orlando, 400 South Orange Avenue, Orlando, FL 32801. | Public Works Department, Engineering Division, 400 South Orange Avenue, 8th Floor, Orlando, FL 32801. | Feb. 26, 2024 | 120186
Osceola (FEMA Docket No.: B-2395) | Unincorporated areas of Osceola County (23-04-0702P). | Don Fisher, Manager, Osceola County, 1 Courthouse Square, Suite 4700, Kissimmee, FL 34741. | Osceola County, Public Works Department, 1 Courthouse Square, Suite 3100, Kissimmee, FL 34741. | Mar. 1, 2024 | 120189
Georgia: Fannin (FEMA Docket No.: B-2395) | City of Blue Ridge (22-04-4037P). | The Honorable Rhonda Haight, Mayor, City of Blue Ridge, 480 West 1st Street, Blue Ridge, GA 30513. | City Hall, 480 West 1st Street, Blue Ridge, GA 30513. | Feb. 22, 2024 | 130445
Massachusetts: Middlesex (FEMA Docket No.: B-2401) | City of Lowell (23-01-0132P). | Thomas A. Golden, Jr., Manager, City of Lowell, 375 Merrimack Street, 2nd Floor, Room 43, Lowell, MA 01852. | Fire Department Administration Office, 99 Moody Street, Lowell, MA 01852. | Feb. 23, 2024 | 250201
Middlesex (FEMA Docket No.: B-2401) | Town of Chelmsford (23-01-0132P). | Paul Cohen, Manager, Town of Chelmsford, 50 Billerica Road, Chelmsford, MA 01824. | Community Development Department, 50 Billerica Road, Chelmsford, MA 01824. | Feb. 23, 2024 | 250188
Oklahoma: Tulsa (FEMA Docket No.: B-2395) | City of Jenks (23-06-0740P). | The Honorable Cory Box, Mayor, City of Jenks, P.O. Box 2007, Jenks, OK 74037. | City Hall, 211 North Elm Street, Jenks, OK 74037. | Feb. 15, 2024 | 400209
Tulsa (FEMA Docket No.: B-2395) | City of Tulsa (23-06-0740P). | The Honorable G.T. Bynum, Mayor, City of Tulsa, 175 East 2nd Street, Suite 15-87, Tulsa, OK 74103. | City Hall, 175 East 2nd Street, Suite 450, Tulsa, OK 74103. | Feb. 15, 2024 | 405381
Tulsa (FEMA Docket No.: B-2395) | Muscogee (Creek) Nation (23-06-0740P). | David Hill, Principal Chief, Muscogee (Creek) Nation, P.O. Box 580, Okmulgee, OK 74447. | Muscogee (Creek) Nation, 1000 OK-56, Okmulgee, OK 74447. | Feb. 15, 2024 | 405384
Tennessee: Wilson (FEMA Docket No.: B-2395) | City of Lebanon (22-04-5900P). | The Honorable Rick Bell, Mayor, City of Lebanon, 200 North Castle Heights Avenue, Lebanon, TN 37087. | Engineering Department, 200 North Castle Heights Avenue, Lebanon, TN 37087. | Feb. 15, 2024 | 470208
Wilson (FEMA Docket No.: B-2395) | Unincorporated areas of Wilson County (22-04-5900P). | The Honorable Randall Hutto, Mayor, Wilson County, 228 East Main Street, Lebanon, TN 37087. | Wilson County, Engineering Department, 228 East Main Street Lebanon, TN 37087. | Feb. 15, 2024 | 470207
Texas:
Collin (FEMA Docket No.: B-2401) | City of Celina (23-06-0718P). | The Honorable Ryan Tubbs, Mayor, City of Celina, 142 North Ohio Street, Celina, TX 75009. | City Hall, 142 North Ohio Street, Celina, TX 75009. | Feb. 20, 2024 | 480133
Collin (FEMA Docket No.: B-2391) | City of Plano (23-06-1596P). | The Honorable John B. Muns, Mayor, City of Plano, 1520 K Avenue, Plano, TX 75074. | Engineering Department, 1520 K Avenue, Plano, TX 75074. | Feb. 26, 2024 | 480140
Dallas (FEMA Docket No.: B-2401) | City of Dallas (23-06-1122P). | The Honorable Eric Johnson, Mayor, City of Dallas, 1500 Marilla Street, Suite 5EN, Dallas, TX 75201. | Floodplain Management Department, 2245 Irving Boulevard, 2nd Floor, Dallas, TX 75207. | Mar. 4, 2024 | 480171
Denton (FEMA Docket No.: B-2401) | Town of Argyle (23-06-1120P). | The Honorable Rick Bradford, Mayor, Town of Argyle, P.O. Box 609, Argyle, TX 76226. | Town Hall, 308 Denton Street, Argyle, TX 76226. | Mar. 1, 2024 | 480775
Denton (FEMA Docket No.: B-2401) | Town of Flower Mound (23-06-1120P). | The Honorable Derek France, Mayor, Town of Flower Mound, 2121 Cross Timbers Road, Flower Mound, TX 75028. | Town Hall, 2121 Cross Timbers Road, Flower Mound, TX 75028. | Mar. 1, 2024 | 480777
Grayson (FEMA Docket No.: B-2401) | City of Denison (23-06-0905P). | The Honorable Janet Gott, Mayor, City of Denison, 300 West Main Street, Denison, TX 75020. | Department of Public Works, 300 West Main Street, Denison, TX 75020. | Feb. 20, 2024 | 480259
Harris (FEMA Docket No.: B-2401) | Unincorporated areas of Harris County (22-06-2700P). | The Honorable Lina Hidalgo, Harris County Judge, 1001 Preston Street, Suite 911 Houston, TX 77002. | Harris County Permit Office, 1111 Fannin Street, 8th Floor, Houston, TX 77002. | Mar. 4, 2024 | 480287
Midland (FEMA Docket No.: B-2391) | City of Midland (23-06-1603P). | The Honorable Lori Blong, Mayor, City of Midland, 300 North Loraine Street, Midland, TX 79701. | City Hall, 300 North Loraine Street, 5th Floor, Midland, TX 79701. | Feb. 20, 2024 | 480477.
Palo Pinto (FEMA Docket No.: B-2395) | City of Mineral Wells (22-06-3015P). | The Honorable Regan Johnson, Mayor, City of Mineral Wells, 115 Southwest 1st Street, Mineral Wells, TX 76067. | City Hall, 115 Southwest 1st Street, Mineral Wells, TX 76067. | Mar. 4, 2024 | 480517
Parker (FEMA Docket No.: B-2395) | City of Willow Park (23-06-0997P). | Bryan Grimes Manager, City of Willow Park, 120 El Chico Trail, Suite A, Willow Park, TX 76087. | City Hall, 120 El Chico Trail, Suite A, Willow Park, TX 76087. | Feb. 14, 2024 | 481164
Parker (FEMA Docket No.: B-2395) | Unincorporated areas of Parker County (23-06-0997P). | The Honorable Pat Deen, Parker County Judge, 1 Courthouse Square, Weatherford, TX 76086. | Parker County Courthouse, 1 Courthouse Square, Weatherford, TX 76086. | Feb. 14, 2024 | 480520
Tarrant (FEMA Docket No.: B-2391) | City of Arlington (23-06-1165P). | The Honorable Jim Ross, Mayor, City of Arlington, P.O. Box 90231, Arlington, TX 76004. | Public Works Department, 101 West Abram Street, Arlington, TX 76010. | Feb. 26, 2024 | 485454
Tarrant (FEMA Docket No.: B-2391) | City of Fort Worth (23-06-1609P). | The Honorable Mattie Parker, Mayor, City of Fort Worth, 200 Texas Street, Fort Worth, TX 76102. | Transportation and Public Works Department, Engineering Vault, 200 Texas Street, Fort Worth, TX 76102. | Feb. 20, 2024 | 480596
Virginia: Loudoun (FEMA Docket No.: B-2395) | Unincorporated areas of Loudoun County (23-03-0390P). | Tim Hemstreet, Loudoun County Administrator, 1 Harrison Street, Southeast, 5th Floor, Leesburg, VA 20175. | Loudoun County Government Center, 1 Harrison Street, Southeast, 3rd Floor, MSC #60, Leesburg, VA 20175. | Mar. 4, 2024 | 510090

[FR Doc. 2024-05965 Filed 3-20-24; 8:45 am]

BILLING CODE 9110-12-P